DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than May 6, 2002.

Also, interested persons are invited to submit written comments regarding the subject matter of the petitioners to the Director of DTAA at the address shown below not later than May 6, 2002.

Petitions filed with the Governors are available for inspection at the Office of the Director, DTAA, ETA, DOL, Room 5311, 200 Constitution Avenue, NW., Washington, DC 20210.

Signed at Washington, DC this 16th day of April, 2002.
Edward A. Tomchick,
Director, Division of Trade Adjustment Assistance.

Appendix
Subject | Location | Date received at Governor's office | Petition | Articles produced
DY Marketing—SML Label (USA) (Wkrs) | San Francisco, CA | 04/10/2002 | NAFTA-6,064 | Clothing labels.
American Tramways (Wkrs) | Waterstown, NY | 10/03/2002 | NAFTA-6,065 | Trams, ski-lift components.
Motorola (Wkrs) | Mesa, AZ | 03/25/2002 | NAFTA-6,066 | Radio tranceivers.
Ericsson, Inc. (Wkrs) | Lynchburg, VA | 04/01/2002 | NAFTA-6,067 | Cellular phones.
Jahil Circuits (Wkrs) | Auburn Hills, MI | 03/18/2002 | NAFTA-6,068 | Electronic circuit boards.
Flex Print (Wkrs) | Moonestown, NJ | 04/15/2002 | NAFTA-6,069 | Foil packaging.
Williamson Dickie (Wkrs) | McAllen, TX | 04/15/2002 | NAFTA-6,070 | Work pants.
Jervia B. Wabb (USWA) | New Hudson, MI | 04/12/2002 | NAFTA-6,071 | Switches, roller turns, drives, etc.
Germantown USA (Co.) | West Chester, PA | 04/08/2002 | NAFTA-6,072 | Stablizers, dry blending.
American Tissue Mill (PACE) | Menasha, WI | 04/13/2002 | NAFTA-6,073 | Napkins, tissue, bath, facial etc.
American Dawn (Wkrs) | Compton, CA | 04/08/2002 | NAFTA-6,074 | Pillows and restaurant wear.
Lockheed Martin Distribution Technologie (Wkrs) | Tulsa, OK | 04/10/2002 | NAFTA-6,075 | Assembly of postal pre-sort machines.
Shiloh Industries (Wkrs) | Canton, MI | 04/08/2002 | NAFTA-6,076 | Built dies for the auto.
Boeing Company (The) (Wkrs) | El Paso, TX | 04/10/2002 | NAFTA-6,077 | Electronic components.
Conring, Inc. (Wkrs) | Wilmington, NC | 04/09/2002 | NAFTA-6,078 | Optical fiber.
Sterling Fluid Systems (IBT) | White Pigeon, MI | 04/08/2002 | NAFTA-6,079 | Pump castings.
Wellon, Inc. (Co.) | Marion, SC | 04/09/2002 | NAFTA-6,080 | Polyester fiber, resin and nylon resin.
Cummins Power Generation (Wkrs) | Fridley, MN | 04/11/2002 | NAFTA-6,081 | Alternators.
Pleatz LLC (Wkrs) | New York, NY | 08/30/2001 | NAFTA-6,082 | Sportswear.
MJM Knitwear (Wkrs) | Brookly, NY | 08/23/2001 | NAFTA-6,083 | Ladies and men sweaters.
Pohlman Foundry—Lionheart Industries (Wkrs) | Buffalo, NY | 09/12/2001 | NAFTA-6,084 | Iron castings.
London Harness and Cable (Wkrs) | Trenton, NJ | 03/06/2002 | NAFTA-6,085 | Cable.
Scapa North America (Wkrs) | Watertown, NY | 08/12/2001 | NAFTA-6,086 | Pressure sensitive tapes.
International Paper (Co.) | Corinth, NY | 07/27/2001 | NAFTA-6,087 | Coated papers.
Zinc Corporation of American (Wkrs) | Hailesboro, NY | 08/13/2001 | NAFTA-6,088 | Zinc concentrate.
Delphi Harrison Thermal Systems (Wkrs) | Lockport, NY | 08/21/2002 | NAFTA-6,089 | Thermal systems products.
VC Sportswear (Wkrs) | New York, NY | 08/20/2001 | NAFTA-6,090 | Children's apparel.
Cooper's Industries (IBEW) | Syracuse, NY | 08/28/2001 | NAFTA-6,091 | Sealing fitting.
Levcor International (Wkrs) | New York, NY | 09/18/2001 | NAFTA-6,092 | Fabrics.
RHO Industries (Co.) | Buffalo, NY | 04/09/2002 | NAFTA-6,093 | Parts of men's suits.
L.G. Philips Display (Co.) | Ottawa, OH | 04/12/2002 | NAFTA-6,094 | Picture tubes.
Levi Strauss and Co. (Co.) | Brownsville, TX | 04/15/2002 | NAFTA-6,095 | Jeans and khaki casual dress pants.
Intimate Touch (Co.) | New York, NY | 03/21/2002 | NAFTA-6,096 | Lace.
Amloid (Co.) | Saddle Brook, NJ | 03/02/2002 | NAFTA-6,097 | Toys.
Leviton Manufacturing (Wkrs) | El Paso, TX | 04/13/2002 | NAFTA-6,098 | Electrical wiring devices.

[FR Doc. 02-10059 Filed 4-23-02; 8:45 am]

BILLING CODE 4510-30-M